PRESIDIO TRUST

The Presidio of San Francisco, California; Extension of the Public Comment Period for the Presidio Trust Implementation Plan Supplemental Environmental Impact Statement; Correction

AGENCY: The Presidio Trust.

ACTION: Correction to date of public comment period.

SUMMARY AND CORRECTION: On November 13, 2000, the Presidio Trust published a notice announcing the extension of the scoping period to comment on proposed conceptual alternatives to be evaluated in the Presidio Trust Implementation Plan Environmental Impact Statement (65 FR 67783). The notice contained an error in the date for the close of the comment period. The extension of the scoping period is from December 8, 2000 to January 15, 2001, not from December 8, 2000 to January 15, 2000, as previously published.

FOR FURTHER INFORMATION CONTACT: John Pelka, NEPA Compliance Coordinator, the Presidio Trust, 34 Graham Street, PO Box 29052, San Francisco, CA 94129-0052. Telephone: 415-561-5300.

Dated: December 15, 2000.
Karen A. Cook,
General Counsel.

[FR Doc. 00-32502 Filed 12-20-00; 8:45 am]

BILLING CODE 4310-4R-U